SMALL BUSINESS ADMINISTRATION

[Disaster Declaration # 10222 and # 10223]

Florida Disaster # FL-00011

AGENCY: Small Business Administration.

ACTION: Notice.

SUMMARY: This is a Notice of the Presidential declaration of a major disaster for the State of Florida (FEMA-1609-DR), dated October 24, 2005.

Incident: Hurricane Wilma.

Incident Period: October 23, 2005 and continuing.

Effective Date: October 24, 2005.

Physical Loan Application Deadline Date: December 23, 2005.

EIDL Loan Application Deadline Date: July 24, 2006.

ADDRESSES: Submit completed loan applications to: U.S. Small Business Administration, National Processing and Disbursement Center, 14925 Kingsport Road, Fort Worth, TX 76155.

FOR FURTHER INFORMATION CONTACT: A. Escobar, Office of Disaster Assistance, U.S. Small Business Administration, 409 3rd Street, Suite 6050, Washington, DC 20416.

SUPPLEMENTARY INFORMATION: Notice is hereby given that as a result of the President's major disaster declaration on October 24, 2005, applications for disaster loans may be filed at the address listed above or other locally announced locations.

The following areas have been determined to be adversely affected by the disaster:

Primary Counties:

Collier, Lee, and Monroe.

Contiguous Counties:

Florida: Broward, Charlotte, Glades, Hendry, and Miami-Dade.

The Interest Rates are:

| Percent
Homeowners with Credit Available Elsewhere | 5.375
Homeowners without Credit Available Elsewhere | 2.687
Businesses with Credit Available Elsewhere | 6.557
Businesses & Small Agricultural Cooperatives without Credit Available Elsewhere | 4.000
Other (Including Non-Profit Organizations) with Credit Available Elsewhere | 4.750
Businesses and Non-Profit Organizations without Credit Available Elsewhere | 4.000

The number assigned to this disaster for physical damage is 102228 and for economic injury is 102230.

(Catalog of Federal Domestic Assistance Numbers 59002 and 59008)
Herbert L. Mitchell,
Associate Administrator for Disaster Assistance.

[FR Doc. 05-21956 Filed 11-2-05; 8:45 am]

BILLING CODE 8025-01-P